DEPARTMENT OF HEALTH AND HUMAN SERVICES

Agency for Healthcare Research and Quality

Notice of Availability on Transforming Healthcare Quality Through Information Technology (THQIT)—Implementation Grants

AGENCY: Agency for Healthcare Research and Quality, HHS.

ACTION: Notice of availability.

SUMMARY: This notices announces the availability of a Request for Applications (RFA) on Implementation grants to evaluate the effects of health information technology (HIT) on improving patient safety and quality of health care.

The objective of this RFA is to support organization and community-wide implementation and diffusion of HIT and to assess the extent to which HIT contributes to measurable and sustainable improvement in patient safety, cost and overall quality of care. Research resulting from this RFA should inform AHRQ, providers, patients, payers, policymakers, and the public about how HIT can be successfully implemented in diverse health care settings and lead to safer and better health for all Americans.

DATES: The following dates will assist the applicant in timing the development of his/her application:

• Technical Assistance (TA)—Respond by January 27, 2004. TA conference call date: January 29, 2004, at 1 pm e.s.t.

• Letter of Intent Receipt Date—Due to AHRQ February 6, 2004.

• Application Receipt Date—April 22, 2004.

ADDRESSES: The RFA was published on November 20, 2003, in the NIH Guide for Grants and Contracts (NIH Guide). This document is available at http://www.ahrq.gov (under Funding Opportunities) or at the NIH Guide, http://grants.nih.gov/grants/guide/rfa-files/RFA-HS-04-011.html.

More information on the TA, where to send your application, etc. is described in the RFA.

FOR FURTHER INFORMATION CONTACT: Scott Young, M.D., Center for Primary Care, Prevention, and Clinical Partnerships, Agency for Healthcare Research and Quality, 540 Gaither Road, Rockville, MD 20850, Telephone: (301) 427-1580, FAX: (301) 427-1597, E-mail: syoung@ahrq.gov.

It is recommended you carefully review the RFA prior to attendance at the TA session.

SUPPLEMENTARY INFORMATION: With this notice potential applicants are informed that this RFA includes a cost sharing requirement. Specific details of the cost sharing component are included in the RFA.

This RFA uses the U01 Cooperative Agreement mechanism. The funds available for FY 04 for this RFA are up to $24 million. AHRQ intends to fund up to 48 new implementation grants with up to $14 million earmarked for rural and small hospitals. The project period for funded grants is up to three years.

Dated: December 17, 2003.
Carolyn M. Clancy,
Director.

[FR Doc. 03-31958 Filed 12-29-03; 8:45 am]

BILLING CODE 4160-90-M